ENVIRONMENTAL PROTECTION AGENCY

[CERCLA-04-2018-3760; FRL-9985-74-Region 4]

Macon Naval Ordnance Plant Superfund Site, Macon, Macon-Bibb County, Georgia; Notice of Settlement

AGENCY: Environmental Protection Agency (EPA).

ACTION: Notice of settlement.

SUMMARY: Under 122(h) of the Comprehensive Environmental Response, Compensation and Liability Act (CERCLA), the United States Environmental Protection Agency has entered into a settlement with A.C. White Transfer & Storage Co. Inc., Damaste Warehousing, LLC, Freudenberg Texbond, L.P., Macon-Bibb County Industrial Authority, James S. Resch Irrevocable Trust, Central Georgia Railroad Company, Armstrong World Industries, Macon-Bibb County, Macon Water Authority, Honeywell International Inc., Reynolds Metals Company, LLC and The Unimax Corporation concerning the Macon Naval Ordnance Plant Superfund Site, located in Macon, Macon-Bibb County, Georgia. The settlement addresses recovery of CERCLA costs for a cleanup action performed by the EPA at the Site. EPA will only be accepting comments on the cost recovery portion of the settlement.

DATES: The Agency will consider public comments on the settlement until November 23, 2018. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using the contact information provided in this notice. Comments may also be submitted by referencing the Site's name through one of the following methods:

Internet: https://www.epa.gov/aboutepa/about-epa-region-4-southeast#r4-public-notices.

• U.S. Mail: U.S. Environmental Protection Agency, Superfund Division, Attn: Paula V. Painter, 61 Forsyth Street SW, Atlanta, Georgia 30303.

• Email: Painter.Paula@epa.gov.

FOR FURTHER INFORMATION CONTACT: Paula V. Painter at 404-562-8887.

Dated: October 4, 2018.
Maurice L. Horsey, IV,
Chief, Enforcement and Community Engagement Branch, Superfund Division.

[FR Doc. 2018-23249 Filed 10-23-18; 8:45 am]

BILLING CODE 6560-50-P